NATIONAL TRANSPORTATION SAFETY BOARD

Sunshine Act Meeting

“FEDERAL REGISTER” CITATION OF PREVIOUS ANNOUNCEMENT: Vol. 65, No. 80/Tuesday, April 25, 2000.

PREVIOUSLY ANNOUNCED TIME AND DATE: 9:30 a.m., Wednesday, May 3, 2000.

CHANGE IN MEETING: A majority of the Board Members determined by recorded vote that the business of the Board required deleting the following item from the agenda at this time and that no earlier announcement was possible.

7256 Special Investigation Report:

Actions to Reduce Fatalities, Injuries, and Crashes Involving the Hard Core Drinking Driver.

FOR MORE INFORMATION CONTACT: Rhonda Underwood, (202) 314-6065.

Dated: April 27, 2000.
Rhonda Underwood,
Federal Register Liaison Officer.

[FR Doc. 00-10961 Filed 4-27-00; 4:41 pm]

BILLING CODE 7533-01-M